DEPARTMENT OF COMMERCE

Patent and Trademark Office

National Medal of Technology and Innovation Nomination Application

ACTION: Proposed collection; comment request.

SUMMARY: The United States Patent and Trademark Office (USPTO), as required by the Paperwork Reduction Act of 1995, invites comments on a proposed extension of an existing information collection: 0651-0060 (National Medal of Technology and Innovation Nomination Application).

DATES: Written comments must be submitted on or before April 16, 2018.

ADDRESSES: You may submit comments by any of the following methods:

• Email: InformationCollection@uspto.gov. Include “0651-0060 comment” in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Requests for additional information should be directed to John Palafoutas, Program Manager, United States Patent and Trademark Office, P.O. Box 1450, Alexandria, VA 22313-1450, by telephone at 571-272-8400, or by email at nmti@uspto.gov with “0651-0060 comment” in the subject line. Additional information about this information is also available at http://www.reginfo.gov under “Information Collection Review.”

SUPPLEMENTARY INFORMATION:

I. Abstract

The National Medal of Technology and Innovation is the highest honor for technological achievement bestowed by the President of the United States of America's leading innovations. Established by an Act of Congress in 1980, the medal of Technology was first awarded in 1985. The Medal is awarded annually to individuals, teams (of up to four individuals), companies, or divisions of companies. The Medal recognizes outstanding contributions to the Nation's economic, environmental and social well-being through the development and commercialization of technology products, processes and concepts, technological innovation, and development of the Nation's technological workforce.

The purpose of the National Medal of Technology and Innovation is to recognize those who have made lasting contributions to America's competitiveness, standard of living, and quality of life through technological innovation, and to recognize those who have made substantial contributions to strengthening the Nation's technological workforce. By highlighting the national importance of technological innovation, the Medal also seeks to inspire future generations of Americans to prepare for and pursue technical careers to keep America at the forefront of global technology and economic leadership.

The National Medal of Technology and Innovation Nomination Evaluation Committee, a distinguished independent committee appointed by the Secretary of Commerce, reviews and evaluates the merit of all candidates nominated through an open, competitive solicitation process. The committee makes its recommendations for Medal candidates to the Secretary of Commerce who, in turn, makes recommendations to the President for final selection. The National Medal of Technology and Innovation Laureates are announced by the White House once the Medalists are notified of their selection.

The public uses the online National Medal of Technology and Innovation Nomination Application to nominate an individual's, team's, or company's extraordinary leadership and innovation in technological achievement and outstanding contribution to strengthening the nation's technological workforce. The application collects general and biographical information about the nominee, general information about the nominator, and a discussion of the nominee's contribution/achievements, and must be accompanied by six letters of recommendation or support from individuals who have first-hand knowledge of the cited achievement(s).

II. Method of Collection

The nomination application and instructions can be accessed from the USPTO website. All nominations should be submitted via the online portal on www.uspto.gov/nmti.

III. Data

OMB Number: 0651-0060.

IC Instruments and Forms: N/A.

Type of Review: Revision of an existing information collection.

Affected Public: Businesses or other for-profit organizations; not-for-profit institutions; individuals or households.

Estimated Number of Respondents: 50 responses per year.

Estimated Time Per Response: The USPTO estimates that it will take approximately 40 hours to gather the necessary information, prepare the nomination form, write the recommendations, and submit the request for the nomination to the USPTO.

Estimated Total Annual Respondent Burden Hours: 2000 hours.

Estimated Total Annual Respondent (Hourly) Cost Burden: $84,020. The USPTO expects that professors, public relations specialists, civil engineers and research managers will complete this information. The professional hourly rates for these occupations, based on the 2017 rates released by the Bureau of Labor Statistics, are $37.00 for professors (OES 25-1199), $31.99 for public relations specialists (OES 27-3031), $43.14 for civil engineers (OES 17-2051), and $55.92 for research managers (15-1111). Using the average combined hourly rate of $42.01, the USPTO estimates that the total respondent cost burden for this collection is $84,020 per year.

IC No. | Item | Estimated time for response | Estimated responses | Estimated annual burden | Rate ($/hr) | Estimated annual respondent cost burden;
|  | (a) | (b) | (c) = (a) × (b) | (d) | (e) = (c) × (d)
1 | National Medal of Technology and Innovation Nomination Form | 40 | 50 | 2,000 | $42.01 | $84,020.00
Totals |  |  | 50 | 2,000 |  | 84,020.00

Estimated Total Annual (Non-hour) Respondent Cost Burden: $0.

There are no filing fees, capital start-up, maintenance, or operation costs associated with this collection. As the USPTO expects that 100% percent of the responses in this collection will be submitted electronically there are no postage costs associated with the collection.

IV. Request for Comments

Comments submitted in response to this notice will be summarized or included in the request for OMB approval of this information collection. They also will become a matter of public record.

Comments are invited on:

(a) Whether the proposed collection of information is necessary for the proper performance of the functions of the agency, including whether the information shall have practical utility;

(b) The accuracy of the agency's estimate of the burden (including hours and cost) of the proposed collection of information

(c) Ways to enhance the quality, utility, and clarity of the information to be collected; and

(d) Ways to minimize the burden of the collection of information on respondents, e.g., the use of automated collection techniques or other forms of information technology.

Marcie Lovett,
Records and Information Governance Division Director, OCTO United States Patent and Trademark Office.

[FR Doc. 2018-02989 Filed 2-13-18; 8:45 am]

BILLING CODE 3510-16-P